Title 3—

The President

Proclamation 8955 of April 8, 2013

National Equal Pay Day, 2013

By the President of the United States of America

A Proclamation

Over the past 4 years, the American people have come together to lift our economy out of recession and forge a foundation for lasting prosperity. Our businesses have created millions of new jobs, our stock market is rebounding, and our housing market has begun to heal. But even now, too many Americans are seeing their hard work go unrewarded because of circumstances beyond their control. Women—who make up nearly half of our Nation's workforce—face a pay gap that means they earn 23 percent less on average than men do. That disparity is even greater for African-American women and Latinas. On National Equal Pay Day, we recognize this injustice by marking how far into the new year women have to work just to make what men did in the previous one.

Wage inequality undermines the promise of fairness and opportunity upon which our country was founded. For families trying to make ends meet, that gap can also mean the difference between falling behind and getting ahead. When working mothers make less than their male counterparts, they have less to spend on basic necessities like child care, groceries, and rent. Small businesses see fewer customers walk through their doors. Tuition payments get harder to afford, and rungs on the ladder of opportunity get farther apart. And just as diminished wages shortchange families, they slow our entire economy—weakening growth here at home and eroding American competitiveness abroad.

To grow our middle class and spur progress in the years ahead, we need to address longstanding inequity that keeps women from earning a living equal to their efforts. That is why I have made pay equity a top priority—from signing the Lilly Ledbetter Fair Pay Act days after I took office to cracking down on equal pay law violations wherever they occur. And to back our belief in equality with the weight of law, I continue to call on the Congress to pass the Paycheck Fairness Act.

Our country has come a long way toward ensuring everyone gets a fair shot at opportunity, no matter who you are or where you come from. But our journey will not be complete until our mothers, our wives, our sisters, and our daughters are treated equally in the workplace and always see an honest day's work rewarded with honest wages. Today, let us renew that vision for ourselves and for our children, and let us rededicate ourselves to realizing it in the days ahead.

NOW, THEREFORE, I, BARACK OBAMA, President of the United States of America, by virtue of the authority vested in me by the Constitution and the laws of the United States, do hereby proclaim April 9, 2013, as National Equal Pay Day. I call upon all Americans to recognize the full value of women's skills and their significant contributions to the labor force, acknowledge the injustice of wage inequality, and join efforts to achieve equal pay.

IN WITNESS WHEREOF, I have hereunto set my hand this eighth day of April, in the year of our Lord two thousand thirteen, and of the Independence of the United States of America the two hundred and thirty-seventh.

[FR Doc. 2013-08728

Filed 4-10-13; 11:15 am]

Billing code 3295-F3